DEPARTMENT OF COMMERCE

International Trade Administration

[A-570-922]

Antidumping Duty Order: Raw Flexible Magnets from the People's Republic of China

AGENCY: Import Administration, International Trade Administration, Department of Commerce.

EFFECTIVE DATE: September 17, 2008.

SUMMARY: Based on affirmative final determinations by the Department of Commerce (the “Department”) and the International Trade Commission (“ITC”), the Department is issuing an antidumping duty order on raw flexible magnets from the People's Republic of China (“PRC”). On August 25, 2008, the ITC notified the Department of its affirmative final determination. See Raw Flexible Magnets from China and Taiwan, Investigation Nos. 701-TA-452 and 731-TA-1129 and 731-TA-1130 (Final), USITC Publication 4030 (August 2008).

The Department released a Notice of Antidumping Duty Order to the parties on August 27, 2008. However, the August 27, 2008, notice contained incorrect language regarding suspension of liquidation. This notice contains the correct language. See “Antidumping Duty Order” section below. The error was discovered prior to publication in the Federal Register. Consequently, this notice is being published in its place.

FOR FURTHER INFORMATION CONTACT: Shawn Higgins, AD/CVD Operations, Office 4, Import Administration, International Trade Administration, U.S. Department of Commerce, 14th Street and Constitution Avenue, NW, Washington, DC, 20230; telephone: (202) 482-0679.

SUPPLEMENTARY INFORMATION:

Background

On July 10, 2008, the Department published the Final Determination of Sales at Less Than Fair Value: Raw Flexible Magnets from the People's Republic of China, 73 FR 39669 (July 10, 2008). On August 25, 2008, in accordance with section 735(d) of the Act, the ITC notified the Department of its final determination, pursuant to section 735(b)(1)(A)(i) of the Tariff Act of 1930, as amended (“the Act”), that an industry in the United States is threatened with material injury by reason of less-than-fair-value imports of subject merchandise from the PRC. See Letter from the ITC to the Secretary of Commerce, “Notification of Final Affirmative Determination of Raw Flexible Magnets from the People's Republic of China and Taiwan (Investigation Nos. 701-TA-452 and 731-TA-1129 and 731-TA-1130),” dated August 25, 2008. Pursuant to section 736(a) of the Act, the Department is publishing an antidumping duty order on the subject merchandise.

Scope of Order

The products covered by this order are certain flexible magnets regardless of shape,¹ color, or packaging.² Subject flexible magnets are bonded magnets composed (not necessarily exclusively) of (i) any one or combination of various flexible binders (such as polymers or co-polymers, or rubber) and (ii) a magnetic element, which may consist of a ferrite permanent magnet material (commonly, strontium or barium ferrite, or a combination of the two), a metal alloy (such as NdFeB or Alnico), any combination of the foregoing with each other or any other material, or any other material capable of being permanently magnetized.

¹ The term “shape” includes, but is not limited to profiles, which are flexible magnets with a non-rectangular cross-section.

² Packaging includes retail or specialty packaging such as digital printer cartridges.

Subject flexible magnets may be in either magnetized or unmagnetized (including demagnetized) condition, and may or may not be fully or partially laminated or fully or partially bonded with paper, plastic, or other material, of any composition and/or color. Subject flexible magnets may be uncoated or may be coated with an adhesive or any other coating or combination of coatings.

Specifically excluded from the scope of this order are printed flexible magnets, defined as flexible magnets (including individual magnets) that are laminated or bonded with paper, plastic, or other material if such paper, plastic, or other material bears printed text and/or images, including but not limited to business cards, calendars, poetry, sports event schedules, business promotions, decorative motifs, and the like. This exclusion does not apply to such printed flexible magnets if the printing concerned consists of only the following: a trade mark or trade name; country of origin; border, stripes, or lines; any printing that is removed in the course of cutting and/or printing magnets for retail sale or other disposition from the flexible magnet; manufacturing or use instructions (e.g., “print this side up,” “this side up,” “laminate here”); printing on adhesive backing (that is, material to be removed in order to expose adhesive for use such as application of laminate) or on any other covering that is removed from the flexible magnet prior or subsequent to final printing and before use; non-permanent printing (that is, printing in a medium that facilitates easy removal, permitting the flexible magnet to be re-printed); printing on the back (magnetic) side; or any combination of the above.

All products meeting the physical description of subject merchandise that are not specifically excluded are within the scope of this order. The products subject to the order are currently classifiable principally under subheadings 8505.19.10 and 8505.19.20 of the Harmonized Tariff Schedule of the United States (“HTSUS”). The HTSUS subheadings are provided only for convenience and customs purposes; the written description of the scope of the order is dispositive.

Antidumping Duty Order

In accordance with section 736(a)(1) of the Act, the Department will direct U.S. Customs and Border Protection (“CBP”) to assess, upon further instruction by the Department, antidumping duties equal to the amount by which the normal value of the merchandise exceeds the export price (or constructed export price) of the merchandise for all relevant entries of raw flexible magnets from the PRC.

According to section 736(b)(2) of the Act, duties shall be assessed on subject merchandise entered, or withdrawn from warehouse, for consumption on or after the date of publication of the ITC's notice of final determination if that determination is based on the threat of material injury and is not accompanied by a finding that injury would have resulted without the imposition of suspension of liquidation of entries since the Department's preliminary determination. In addition, section 736(b)(2) of the Act requires CBP to refund any cash deposits or bonds of estimated antidumping duties posted since the preliminary antidumping determination if the ITC's final determination is threat-based.

Because the ITC's final determination is based on the threat of material injury and is not accompanied by a finding that injury would have resulted but for the imposition of suspension of liquidation of entries since the Preliminary Determination of Sales at Less Than Fair Value: Raw Flexible Magnets from the People's Republic of China, 73 FR 22327 (April 25, 2008) (“Preliminary Determination”), section 736(b)(2) of the Act is applicable. Therefore, the Department will direct CBP to assess, upon further advice, antidumping duties on all unliquidated entries of raw flexible magnets from the PRC entered, or withdrawn from warehouse, for consumption on or after September 2, 2008, the date of publication of the ITC's notice of final determination of threat of material injury in the Federal Register,³ in accordance with the following dumping margins:

³ See Raw Flexible Magnets from China and Taiwan, 73 FR 51317 (September 2, 2008).

Manufacturer/Exporter | Margin (Percent)
Guangzhou Newlife Magnet Electricity Co., Ltd.⁴ | 105.00
PRC-wide Entity | 185.28
⁴ Guangzhou Newlife Magnet Electricity Co., Ltd. both manufactures and exports subject merchandise.

Effective September 2, 2008, CBP, pursuant to section 736(a)(3) of the Act, will require, at the same time as importers would normally deposit estimated duties on this merchandise, cash deposits equal to the estimated antidumping duty margins as listed above. The PRC-wide rate applies to all exporters of subject merchandise not specifically listed.

The Department will also instruct CBP to terminate the suspension of liquidation for entries of raw flexible magnets from the PRC entered, or withdrawn from warehouse, for consumption prior to September 2, 2008, and refund any cash deposits made and release any bonds posted between the publication of the Preliminary Determination on April 25, 2008, and the publication of the ITC's final determination on September 2, 2008.

This notice constitutes the antidumping duty order with respect to raw flexible magnets from the PRC pursuant to section 736(a) of the Act. Interested parties may contact the Department's Central Records Unit, Room 1117 of the main Department building, for copies of an updated list of antidumping duty orders currently in effect.

This order is published in accordance with section 736(a) of the Act and 19 CFR 351.211.

Dated: September 9, 2008.
Stephen J. Claeys,
Acting Assistant Secretary for Import Administration.

[FR Doc. E8-21717 Filed 9-16-08; 8:45 am]

BILLING CODE: 3510-DS-S